DEPARTMENT OF AGRICULTURE

Submission for OMB Review; Comment Request

October 3, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Publications Evaluation Card.

OMB Control Number: 0596-0163.

Summary of Collection: Executive Order 12862 issued September 11, 1993, directed Federal agencies to change the way they do business, to reform their management practices, to provide service to the public that matches or exceeds the best service available in the private sector, and to establish and implement customer service standards to carry out principles of the National Performance Review. In response to this Executive Order, the Forest Service (FS) Southern Research Station developed a “Publication Comment” Card for inclusion when distributing scientific research publications. FS has come to realize that some changes in their publications may be necessary to achieve their goals and wishes to elicit voluntary feedback from their readers to help determine the changes to make. FS will collect information using the comment card.

Need and Use of the Information: FS will collect information, which will ask the respondents to rate the publication that they received or read. The information will be used to improve the readability and usefulness of FS articles, papers, and books. The collected information also helps scientists and authors provide relevant information on effective, efficient, responsible land management. If the information is not collected FS will forgo any opportunity to learn if publications meet customers' expectations and address customer's needs.

Description of Respondents: Individuals or households.

Number of Respondents: 72,000.

Frequency of Responses: Reporting: On occasion.

Total Burden Hours: 4,800.

Forest Service

Title: Homeowner Response to Wildfire Hazard Mitigation Incentives: What Works and What Doesn't.

OMB Control Number: 0596-NEW.

Summary of Collection: This project assists the Forest Service in implementing the Healthy Forest Restoration Act (Act), Pub. L. 108-148, by supporting development of Community Wildfire Protection Plans as required under this Act. According to federal land managers, the cost of protecting private property in areas near public forests, known as the wildland-urban interface (WUI), is growing rapidly. The Forest Service would like to find ways to help local communities share the responsibility for community fire protection.

Need and Use of the Information: Information will be collected from homeowners in high-risk WUI areas in four different locations. A self-administrated mail survey questionnaire will be sent to participating homeowners asking about their knowledge and understanding of local wildfires, their own efforts to protect their homes, why they do or do not comply with local guidelines and laws, and the effectiveness and fairness of local wildfire protection programs and programs of other communities. The information will be used to prepare guidance materials to help local community's structure local defensible space policies and promotional materials. Results will be used to develop a matrix of options intended to assist policy makers, resource managers, community officials, and residents in determining and initiating the most effective and efficient wildland fire abatement programs for their jurisdictions.

Description of Respondents: Individuals or households.

Number of Respondents: 2,000.

Frequency of Responses: Reporting: One time.

Total Burden Hours: 500.

Charlene Parker,
Departmental Information Collection Clearance Officer.

[FR Doc. E7-19873 Filed 10-9-07; 8:45 am]

BILLING CODE 3410-11-P